DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of two individuals that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See SUPPLEMENTARY INFORMATION section for effective date.

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Action(s)

On November 9, 2022, OFAC determined that the property and interests in property subject to U.S. jurisdiction of the following persons are blocked under the relevant sanctions authority listed below.

Individuals

1. HARIS NIZAR, Mohamad Irshad Mohamad (a.k.a. HARIS NIZAR, Mohamed Irshad Mohamed), 96-3 China Fort Road, Beruwala, Sri Lanka; DOB 27 Apr 1971; POB Beruwala, Sri Lanka; nationality Sri Lanka; Gender Male; Secondary sanctions risk: section 1(b) of Executive Order 13224, as amended by Executive Order 13886; Passport N5636241 (Sri Lanka) expires 04 Dec 2025 (individual) [SDGT] (Linked To: TALIB, Ahmed Luqman).

Designated pursuant to section 1(a)(iii)(C) of Executive Order 13224 of September 23, 2001, “Blocking Property and Prohibiting Transactions With Persons Who Commit, Threaten to Commit, or Support Terrorism,” 66 FR 49079, as amended by Executive Order 13886 of September 9, 2019, “Modernizing Sanctions To Combat Terrorism,” 84 FR 48041 (E.O. 13224, as amended), for having materially assisted, sponsored, or provided financial, material, or technological support for, or goods or services to or in support of, AHMED LUQMAN TALIB, a person whose property and interests in property are blocked pursuant to E.O. 13224, as amended.

2. TURKMEN, Musab (Latin: TÜRKMEN, Musab) (a.k.a. TURKMAN, Musab), Sinanagha Mah. Dersvekil Sokak 55 4, Fatih, Istanbul, Turkey; DOB 11 Jan 1988; POB Eyup, Sanliurfa Merkez, Sanliurfa, Turkey; nationality Turkey; Gender Male; Secondary sanctions risk: section 1(b) of Executive Order 13224, as amended by Executive Order 13886; Passport U01884667 (Turkey) expires 07 Apr 2021; Turkish Identification Number 68941120966 (Turkey) (individual) [SDGT] (Linked To: TALIB, Ahmed Luqman).

Designated pursuant to section 1(a)(iii)(C) of E.O. 13224, as amended, for having materially assisted, sponsored, or provided financial, material, or technological support for, or goods or services to or in support of, AHMED LUQMAN TALIB, a person whose property and interests in property are blocked pursuant to E.O. 13224, as amended.

Dated: November 9, 2022.
Andrea M. Gacki,
Director, Office of Foreign Assets Control, U.S. Department of the Treasury.

[FR Doc. 2022-24820 Filed 11-14-22; 8:45 am]

BILLING CODE 4810-AL-P